SMALL BUSINESS ADMINISTRATION

Public Federal Regulatory Enforcement Fairness Hearing; Region VIII Regulatory Fairness Board

The U.S. Small Business Administration (SBA) Region VIII Regulatory Fairness Board and the SBA Office of the National Ombudsman will hold a public hearing on Thursday, April 13, 2006, at 9 a.m. The meeting will take place at the Ramkota River Centre, Gallery B, 920 W. Sioux Avenue, Pierre, SD. The purpose of the meeting is to receive comments and testimony from small business owners, small government entities, and small non-profit organizations concerning regulatory enforcement and compliance actions taken by Federal agencies.

Anyone wishing to attend or to make a presentation must contact Jon Haverly, in writing or by fax, in order to be put on the agenda. Jon Haverly, District Counsel, SBA, South Dakota District Office, 2329 N. Career Avenue #105, Sioux Falls, SD 57107, phone (605) 330-4243, Ext. 42, fax (202) 481-2684, e-mail: jon.haverly@sba.gov.

For more information, see our Web site at http://www.sba.gov/ombudsman.

Matt Pohl,
Special Assistant, Intergovernmental Affairs.

[FR Doc. E6-5239 Filed 4-10-06; 8:45 am]

BILLING CODE 8025-01-P